DEPARTMENT OF ENERGY

Federal Energy Regulatory Commission

[Docket No. CP02-90-003]

AES Ocean Express, L.L.C.; Notice of Availability of the Environmental Assessment for the Proposed Modifications to the Ocean Express Pipeline Project

February 16, 2005.

The staff of the Federal Energy Regulatory Commission (FERC or Commission) and the Mineral Management Service (MMS) have prepared this Environmental Assessment (EA) to discuss the environmental impacts of the Modifications to the Ocean Express Pipeline Project proposed by AES Ocean Express, L.L.C. (Ocean Express) in the above referenced docket. The proposed project is located in Broward County, Florida; State Waters of Florida; and Federal Waters of the United States.

This EA has been prepared to comply with the requirements of the National Environmental Policy Act (NEPA), the Council of Environmental Quality (CEQ) regulations for implementing NEPA (Title 40, Code of Federal Regulations (CFR), sections 1500-1508), and the Commission's regulations (18 CFR part 380). The staff concludes that approval of this proposal would not constitute a major Federal action significantly affecting the quality of the human environment. The EA also evaluates alternatives to the proposal, including system alternatives; major route alternatives; and route variations.

The FERC prepared this EA to address the potential environmental impacts of the proposed modifications. The original project was addressed by the Final Environmental Impact Statement for the Ocean Express Pipeline Project (FEIS) issued on November 28, 2003. The modified project would use the same methodologies for deepwater construction and onshore construction. However, the landfall portion of the pipeline would be installed in a 14,000-foot tunnel instead of the two HDD segments and associated direct pipelay on the seafloor. The tunnel amendment would also incorporate minor route changes to accommodate the methodology. These minor route changes would result in a slight decrease in the length of the landfall portion and thus the overall project length.

Approximately 95 percent of the original project analyzed in the FEIS is relatively unchanged, with the exception of the 2-inch increase in pipeline diameter. The tunnel amendment would increase the pipeline diameter for the modified project from 24 inches to 26 inches and internally coat the pipeline to allow increased flow rates. Ocean Express does not propose to increase the certificated capacity (842,000 dekatherms/day). Ocean Express proposes to install a pressure reducing station inside the new tunnel to reduce the onshore Maximum Allowable Operating Pressure (MAOP) to 1,480 pounds per square inch gauge (psig) or less from the certificated 2,200 psig. The modifications include an access building at the tunnel shaft at the Dania Beach Boulevard Traffic Circle with a gas vent.

Comment Procedures and Public Meetings

Any person wishing to comment on the EA may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP02-090-003;

• Label one copy of your comments for the attention of Gas Branch 3, PJ11.3; and

• Mail your comments so that they will be received in Washington, DC on or before March 18, 2005.

Please note that we are continuing to experience delays in mail deliveries from the U.S. Postal Service. As a result, we will include all comments that we receive within a reasonable time frame in our environmental analysis of the project. However, the Commission strongly encourages electronic filing of any comments or interventions to this proceeding. See 18 CFR 385.2001(a)(1)(iii) and the instructions on the Commission's Web site at http://www.ferc.gov under the “e-Filing” link and the link to the User's Guide. Before you can file comments you will need to create a free account which can be created online.

The EA has been placed in the public files of the FERC and is available for public inspection at: Federal Energy Regulatory Commission, Public Reference, 888 First Street, NE., Room 2A, Washington, DC 20426, (202) 502-8371.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or FERCOnlineSupport@ferc.gov. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E5-705 Filed 2-22-05; 8:45 am]

BILLING CODE 6717-01-P